FEDERAL COMMUNICATIONS COMMISSION

47 CFR Part 73

[DA 02-3568; MB Docket No. 02-387; RM-10623]

Radio Broadcasting Services; Lahaina and Waianae, HI

AGENCY: Federal Communications Commission.

ACTION: Proposed rule.

SUMMARY: This document requests comments on a petition for rule making filed by Pacific Radio Group, licensee of Station KLHI(FM), Channel 266C, Lahaina, Hawaii The petition proposes to change Station KLHI(FM)'s community of license from Lahaina to Waianae, Hawaii and provide Waianae with its first local aural transmission service. The coordinates for requested Channel 266C at Waianae, Hawaii are 21-23-51 NL and 158-06-01 WL, with a site restriction of 10.7 kilometers (6.6 miles) southeast of Waianae.

Petitioner's reallotment proposal complies with the provisions of Section 1.420(i) of the Commission's Rules, and therefore, the Commission will not accept competing expressions of interest in the use of Channel 266C at Waianae, Hawaii or require the petitioner to demonstrate the availability of an additional equivalent class channel.

DATES: Comments must be filed on or before February 14, 2003, and reply comments on or before March 3, 2003.

ADDRESSES: Secretary, Federal Communications Commission, 445 12th Street, SW., Room TW-A325, Washington, DC 20554. In addition to filing comments with the FCC, interested parties should serve the petitioners' counsel, as follows: Mark N. Lipp, Esq. and J. Thomas Nolan, Esq., Shook, Hardy & Bacon, LLP.; 600 14th Street, NW., Suite 800; Washington, DC 20005-2004.

FOR FURTHER INFORMATION CONTACT: R. Barthen Gorman, Media Bureau, (202) 418-2180.

SUPPLEMENTARY INFORMATION: This is a synopsis of the Commission's Notice of Proposed Rule Making, MB Docket No. 02-387, adopted December 20, 2002, and released December 24, 2002. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Hawaii, is amended by adding Waianae, Channel 266C, and removing Channel 266C1 at Lahaina.

Federal Communications Commission.
John A. Karousos,
Assistant Chief, Audio Division Media Bureau.

[FR Doc. 03-1200 Filed 1-17-03; 8:45 am]

BILLING CODE 6712-01-P